DEPARTMENT OF HOMELAND SECURITY

Federal Emergency Management Agency

[Docket ID FEMA-2020-0002]

Changes in Flood Hazard Determinations

AGENCY: Federal Emergency Management Agency, DHS.

ACTION: Notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities. The flood hazard determinations modified by each LOMR will be used to calculate flood insurance premium rates for new buildings and their contents.

DATES: Each LOMR was finalized as in the table below.

ADDRESSES: Each LOMR is available for inspection at both the respective Community Map Repository address listed in the table below and online through the FEMA Map Service Center at https://msc.fema.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Map Information eXchange (FMIX) online at https://www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Insurance and Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP and are used to calculate the appropriate flood insurance premium rates for new buildings, and for the contents in those buildings. The changes in flood hazard determinations are in accordance with 44 CFR 65.4.

Interested lessees and owners of real property are encouraged to review the final flood hazard information available at the address cited below for each community or online through the FEMA Map Service Center at https://msc.fema.gov.

(Catalog of Federal Domestic Assistance No. 97.022, “Flood Insurance.”)

Michael M. Grimm,
Assistant Administrator for Risk Management, Department of Homeland Security, Federal Emergency Management Agency.

State and county | Location and case No. | Chief executive officer of community | Community map repository | Date of modification | Community No.
Alabama: Mobile (FEMA Docket No.: B-1970). | Unincorporated areas of Mobile County (19-04-3563P). | The Honorable Connie Hudson, President, Mobile County Commission, 205 Government Street, 10th Floor, South Tower, Mobile, AL 36644. | Mobile County Government Plaza, 205 Government Street, 6th Floor, South Tower, Mobile, AL 36644. | Jan. 27, 2020 | 015008
Colorado:
Adams (FEMA Docket No.: B-1970). | Unincorporated areas of Adams County (19-08-0428P). | The Honorable Mary Hodge, Chair, Adams County Board of Commissioners, 4430 South Adams County Parkway, Suite C5000A, Brighton, CO 80601. | Adams County Public Works Department, 4430 South Adams County Parkway, Brighton, CO 80601. | Jan. 24, 2020 | 080001
Arapahoe (FEMA Docket No.: B-1970). | City of Aurora (19-08-0428P). | The Honorable Bob LeGare, Mayor, City of Aurora, 15151 East Alameda Parkway, Aurora, CO 80012. | Engineering Department, 15151 East Alameda Parkway, Aurora, CO 80012. | Jan. 24, 2020 | 080002
Archuleta (FEMA Docket No.: B-1970). | Town of Pagosa Springs (19-08-0182P). | The Honorable Don Volger, Mayor, Town of Pagosa Springs, P.O. Box 1859, Pagosa Springs, CO 81147. | Town Hall, 551 Hot Springs Boulevard, Pagosa Springs, CO 81147. | Jan. 31, 2020 | 080019
Archuleta (FEMA Docket No.: B-1970). | Unincorporated areas of Archuleta County (19-08-0182P). | Mr. Scott Wall, Archuleta County Administrator, P.O. Box 1507, Pagosa Springs, CO 81147. | Archuleta County Planning Department, 1122 Highway 84, Pagosa Springs, CO 81147. | Jan. 31, 2020 | 080273
Boulder (FEMA Docket No.: B-1970). | City of Boulder (19-08-0401P). | The Honorable Suzanne Jones, Mayor, City of Boulder, 1777 Broadway, Boulder, CO 80302. | Planning and Development Services Department, 1739 Broadway, Boulder, CO 80302. | Jan. 22, 2020 | 080024
El Paso (FEMA Docket No.: B-1970). | City of Colorado Springs (19-08-0304P). | The Honorable John Suthers, Mayor, City of Colorado Springs, 30 South Nevada Avenue, Suite 601, Colorado Springs, CO 80903. | Pikes Peak Regional Development Center, 2880 International Circle, Colorado Springs, CO 80910. | Feb. 3, 2020 | 080060
Florida:
Charlotte (FEMA Docket No.: B-1970). | Unincorporated areas of Charlotte County (18-04-3990P). | The Honorable Ken Doherty, Chairman, Charlotte County Board of Commissioners, 18500 Murdock Circle, Suite 536, Port Charlotte, FL 33948. | Charlotte County Community Development Department, 18400 Murdock Circle, Port Charlotte, FL 33948. | Dec. 31, 2019 | 120061
Lake (FEMA Docket No.: B-1970). | City of Clermont (19-04-1054P). | The Honorable Gail L. Ash, Mayor, City of Clermont, 685 West Montrose Street, Clermont, FL 34711. | Engineering Department, 400 12th Street, Clermont, FL 34711. | Jan. 28, 2020 | 120133
Lake (FEMA Docket No.: B-1970). | Town of Howey in the Hills (19-04-2449P). | The Honorable David Nebel, Mayor, Town of Howey in the Hills, 101 North Palm Avenue, Howey in the Hills, FL 34737. | Town Hall, 101 North Palm Avenue, Howey in the Hills, FL 34737. | Jan. 30, 2020 | 120585
Lake (FEMA Docket No.: B-1970). | Unincorporated areas of Lake County (19-04-1054P). | Mr. Jeff Cole, Lake County Manager, 315 West Main Street, Tavares, FL 32778. | Lake County Public Works Department, 323 North Sinclair Avenue, Tavares, FL 32778. | Jan. 28, 2020 | 120421
Lake (FEMA Docket No.: B-1970). | Unincorporated areas of Lake County (19-04-2449P). | Mr. Jeff Cole, Lake County Manager, 315 West Main Street, Tavares, FL 32778. | Lake County Public Works Department, 323 North Sinclair Avenue, Tavares, FL 32778. | Jan. 30, 2020 | 120421
Lee (FEMA Docket No.: B-1974). | City of Bonita Springs (19-04-5151P). | The Honorable Peter Simmons, Mayor, City of Bonita Springs, 9101 Bonita Beach Road, Bonita Springs, FL 34135. | Community Development Department, 9220 Bonita Beach Road, Bonita Springs, FL 34135. | Jan. 28, 2020 | 120680
Lee (FEMA Docket No.: B-1970). | Town of Fort Myers Beach (19-04-4050P). | The Honorable Anita Cereceda, Mayor, Town of Fort Myers Beach, 2525 Estero Boulevard, Fort Myers Beach, FL 33931. | Community Development Department, 2525 Estero Boulevard, Fort Myers Beach, FL 33931. | Jan. 23, 2020 | 120673
Lee (FEMA Docket No.: B-1970). | Town of Fort Myers Beach (19-04-5110P). | The Honorable Anita Cereceda, Mayor, Town of Fort Myers Beach, 2525 Estero Boulevard, Fort Myers Beach, FL 33931. | Community Development Department, 2525 Estero Boulevard, Fort Myers Beach, FL 33931. | Jan. 27, 2020 | 120673
Lee (FEMA Docket No.: B-1970). | Unincorporated areas of Lee County (18-04-3990P). | Mr. Roger Desjarlais, Lee County Manager, 2115 2nd Street, Fort Myers, FL 33901. | Lee County Building Department, 1500 Monroe Street, Fort Myers, FL 33901. | Dec. 31, 2019 | 125124
Lee (FEMA Docket No.: B-1970). | Unincorporated areas of Lee County (19-04-0766P). | Mr. Roger Desjarlais, Lee County Manager, 2115 2nd Street, Fort Myers, FL 33901. | Lee County Building Department, 1500 Monroe Street, Fort Myers, FL 33901. | Jan. 29, 2020 | 125124
Monroe (FEMA Docket No.: B-1970). | City of Marathon (19-04-5677P). | The Honorable John Bartus, Mayor, City of Marathon, 9805 Overseas Highway, Marathon, FL 33050. | Planning Department, 9805 Overseas Highway, Marathon, FL 33050. | Jan. 29, 2020 | 120681
Monroe (FEMA Docket No.: B-1970). | Unincorporated areas of Monroe County (19-04-3460P). | The Honorable Sylvia Murphy, Mayor, Monroe County Board of Commissioners, 102050 Overseas Highway, Suite 234, Key Largo, FL 33037. | Monroe County Building Department, 2798 Overseas Highway, Suite 300, Marathon, FL 33050. | Jan. 22, 2020 | 125129
Monroe (FEMA Docket No.: B-1970). | Unincorporated areas of Monroe County (19-04-5713P). | The Honorable Sylvia Murphy, Mayor, Monroe County Board of Commissioners, 102050 Overseas Highway, Suite 234, Key Largo, FL 33037. | Monroe County Building Department, 2798 Overseas Highway, Suite 300, Marathon, FL 33050. | Jan. 29, 2020 | 125129
Orange (FEMA Docket No.: B-1974). | City of Orlando (19-04-5111P). | The Honorable Buddy W. Dyer, Mayor, City of Orlando, P.O. Box 4990, Orlando, FL 32802. | Public Works Department, Engineering Division, 400 South Orange Avenue, 8th Floor, Orlando, FL 32801. | Jan. 28, 2020 | 120186
Polk (FEMA Docket No.: B-1974). | Unincorporated areas of Polk County (19-04-0781P). | The Honorable George Lindsey III, Chairman, Polk County Board of Commissioners, P.O. Box 9005, Drawer BC01, Bartow, FL 33831. | Polk County Land Development Division, 330 West Church Street, Bartow, FL 33830. | Jan. 30, 2020 | 120261
Louisiana: Lincoln (FEMA Docket No.: B-1970). | City of Ruston (19-06-2114P). | The Honorable Ronny Walker, Mayor, City of Ruston, P.O. Box 2069, Ruston, LA 71273. | Department of Public Works, 701 East Tennessee Avenue, Ruston, LA 71273. | Dec. 26, 2019 | 220347
North Carolina:
Cherokee (FEMA Docket No.: B-1981). | Unincorporated areas of Cherokee County (18-04-7507P). | The Honorable Dan Eichenbaum, Chairman, Cherokee County Board of Commissioners, 75 Peachtree Street, Murphy, NC 28906. | Cherokee County, GIS Mapping Department, 75 Peachtree Street, Murphy, NC 28906. | Feb. 6, 2020 | 370059
Orange (FEMA Docket No.: B-1974). | Town of Carrboro (19-04-0720P). | The Honorable Lydia Lavelle, Mayor, Town of Carrboro, 301 West Main Street, Carrboro, NC 27510. | Planning Department, 301 West Main Street, Carrboro, NC 27510. | Feb. 4, 2020 | 370275
South Carolina: Horry (FEMA Docket No.: B-1970). | City of North Myrtle Beach (19-04-5172P). | Mr. Mike Mahaney, City of North Myrtle Beach Manager, 1018 2nd Avenue South, North Myrtle Beach, SC 29582. | Building Department, 1018 2nd Avenue South, North Myrtle Beach, SC 29582. | Jan. 27, 2020 | 450110
Texas:
Bexar (FEMA Docket No.: B-1970). | City of San Antonio (19-06-1449P). | The Honorable Ron Nirenberg, Mayor, City of San Antonio, P.O. Box 839966, San Antonio, TX 78283. | Transportation and Capitol Improvements Department, Storm Water Division, San Antonio, TX 78204. | Dec. 30, 2019 | 480045
Collin (FEMA Docket No.: B-1974). | City of Frisco (19-06-1915P). | The Honorable Jeff Cheney, Mayor, City of Frisco, 6101 Frisco Square Boulevard, Frisco, TX 75034. | Engineering Services Department, 6101 Frisco Square Boulevard, Frisco, TX 75034. | Feb. 3, 2020 | 480134
Collin (FEMA Docket No.: B-1970). | City of Princeton (19-06-0798P). | The Honorable John Mark Caldwell, Mayor, City of Princeton, 123 West Princeton Drive, Princeton, TX 75407. | Development Services Department, 123 West Princeton Drive, Princeton, TX 75407. | Feb. 3, 2020 | 480757
Collin (FEMA Docket No.: B-1970). | Unincorporated areas of Collin County (19-06-0798P). | The Honorable Chris Hill, Collin County Judge, 2300 Bloomdale Road, Suite 4192, McKinney, TX 75071. | Collin County Engineering Department, 4690 Community Avenue, Suite 200, McKinney, TX 75071. | Feb. 3, 2020 | 480130
Denton (FEMA Docket No.: B-1974). | City of Highland Village (19-06-0868P). | Mr. Michael Leavitt, City of Highland Village Manager, 1000 Highland Village Road, Highland Village, TX 75077. | City Hall, 1000 Highland Village Road, Highland Village, TX 75077. | Jan. 31, 2020 | 481105
Harris (FEMA Docket No.: B-1974). | Unincorporated areas of Harris County (19-06-0834P). | The Honorable Lina Hidalgo, Harris County Judge, 1001 Preston Street, Suite 911, Houston, TX 77002. | Harris County Engineering Department, Permits Division, 10555 Northwest Freeway, Suite 120, Houston, TX 77092. | Jan. 27, 2020 | 480287
Montgomery (FEMA Docket No.: B-1974). | Unincorporated areas of Montgomery County (19-06-0834P). | The Honorable Mark J. Keough, Montgomery County Judge, 501 North Thompson Street, Suite 401, Conroe, TX 77301. | Montgomery County Alan B. Sadler Commissioners Court Building, 501 North Thompson Street, Suite 100, Conroe, TX 77301. | Jan. 27, 2020 | 480483
Tarrant (FEMA Docket No.: B-1970). | City of Fort Worth (19-06-0340P). | The Honorable Betsy Price, Mayor, City of Fort Worth, 200 Texas Street, Fort Worth, TX 76102. | Transportation and Public Works Department, 200 Texas Street, Fort Worth, TX 76102. | Jan. 27, 2020 | 480596
Travis (FEMA Docket No.: B-1967). | City of Lakeway (19-06-0745P). | Mr. Steven Jones, Manager, City of Lakeway, 1102 Lohmans Crossing Road, Lakeway, TX 78734. | City Hall, 1102 Lohmans Crossing Road, Lakeway, TX 78734. | Jan. 23, 2020 | 481303

[FR Doc. 2020-03898 Filed 2-26-20; 8:45 am]

BILLING CODE 9110-12-P